DEPARTMENT OF ENERGY

Federal Energy Regulatory Commission

Combined Notice of Filings

Take notice that the Commission has received the following Natural Gas Pipeline Rate and Refund Report filings:

Filings Instituting Proceedings

Docket Numbers: RP22-38-000.

Applicants: Natural Gas Pipeline Company of America LLC.

Description: § 4(d) Rate Filing: Amendment to a Negotiated Rate Agreemen Filing-Kiowa Power Partners to be effective 10/13/2021.

Filed Date: 10/12/21.

Accession Number: 20211012-5294.

Comment Date: 5 p.m. ET 10/25/21.

Docket Numbers: RP22-39-000.

Applicants: Destin Pipeline Company, L.L.C.

Description: § 4(d) Rate Filing: Destin Pipelines Tariff Housekeeping Filing to be effective 11/13/2021.

Filed Date: 10/12/21.

Accession Number: 20211012-5297.

Comment Date: 5 p.m. ET 10/25/21.

Docket Numbers: RP22-40-000.

Applicants: Double E Pipeline, LLC.

Description: § 4(d) Rate Filing: Double E Pipeline, LLC—Baseline Tariff Filing to be effective 11/15/2021.

Filed Date: 10/12/21.

Accession Number: 20211012-5397.

Comment Date: 5 p.m. ET 10/25/21.

Docket Numbers: RP22-41-000.

Applicants: Tennessee Gas Pipeline Company, L.L.C.

Description: § 4(d) Rate Filing: PAL NRA Engie SP371112, JAron SP371128 & JP Morgan SP371110 to be effective 11/1/2021.

Filed Date: 10/13/21.

Accession Number: 20211013-5045.

Comment Date: 5 p.m. ET 10/25/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1154-001.

Applicants: Enable Gas Transmission, LLC.

Description: Tariff Amendment: EGT Filing to Correct Tariff Record—Effective November 1 2021 to be effective 11/1/2021.

Filed Date: 10/12/21.

Accession Number: 20211012-5347.

Comment Date: 5 p.m. ET 10/25/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2021.
Debbie-Anne A. Reese,
Deputy Secretary.

[FR Doc. 2021-22722 Filed 10-18-21; 8:45 am]

BILLING CODE 6717-01-P